NATIONAL SCIENCE FOUNDATION

Notice of Intent to Seek Approval to Establish an Information Collection

AGENCY: National Science Foundation.

ACTION: Notice and Request for Comments.

SUMMARY: The National Science Foundation (NSF) is announcing plans to request clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than three years.

DATES: Written comments on this notice must be received by August 12, 2005 to be assured of consideration. Comments received after that date will be considered to the extent practicable.

For Additional Information or Comments: Contact Suzanne H. Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339 between 8 a.m. and 8 p.m., Eastern time, Monday through Friday. You also may obtain a copy of the data collection instrument and instructions from Ms. Plimpton.

SUPPLEMENTARY INFORMATION: OMB Number: 3145-NEW.

Expiration Date of Approval: Not applicable.

Type of Request: Intent to seek approval to establish an information collection.

Abstract:

Proposed Project:

Task 1

NSF's priority area in Nanoscale Science & Engineering (NS&E) has been funded since FY 2001 and is funded at approximately $335 million in FY 2005. The goals of the NS&E priority area are to support fundamental knowledge creation across disciplinary principles, phenomena, and tools at the nanoscale, and to catalyze synergistic science and engineering research and education in emerging areas of nanoscale science and technology. A NSF contractor will study partnerships and knowledge transfer and innovation activities related to (1) NS&E (Nanoscale Interdisciplinary Research Team (NIRT) and Nanoscale Science and Engineering Center (NSEC) awards made during FY 2001­-2004 and (2) NSF awards to two networks that work closely with NS&E—the National Nanotechnology Infrastructure Network (NNIN) and the Network for Computational Nanotechnology (NCN).

Using a standard set of definitions to ensure comparability across awards, the contractor will collect data on patents; licenses; state, local, and industrial partnerships; start-up companies; and other indicators of technology transfer and collaboration with state and local governments and industry. To the extent possible, the contractor will also collect data on state and private investments in activities that complement or build upon the NSF awards. For geographic areas where there has been significant NSF funding under these activities, the contractor may propose to provide an initial assessment of the contribution of these awards to the regional economy. The contractor's data collection shall include, but need not be limited to, gathering information from public and private databases and conducting interviews with NS&E grantees to fill remaining gaps. The data will be integrated into a database with information on each award. The database will be consistent with the database that the EEC Division has constructed for the NSECs.

The analyses will summarize the data overall and by mode of funding (NIRT, NSEC, NNIN, NCN) and identify key topics, if any that are a major focus for knowledge transfer and partnerships.

Task 2

The subcontractor will define and present alternative methodologies for documenting the creation of an interdisciplinary research community in nonotechnology. These methodologies shall provide a means to qualitatively assess the size and scope of the interdisciplinary research community in nanoscience and nanoengineering from the period 2001-2004. This analysis will also provide a basis for determining how collaborations lead to new directions in research and education in nanoscience and engineering. Most of the data for this effort will be gathered directly from the Internet. However, the contractor may contact selected NS&E, NNIN, or NCN awardees to fill data gaps or to confirm data.

Estimate of Burden: task 1-10 hours. Task 2-2 hours.

Respondents: Individuals and not-for-profit organizations.

Number of Respondents: There are approximately 260 recipients and plans call for contacting 50% of them.

Estimated Number of Responses per Survey: One.

Comments: Comments are invited on (a) Whether the proposed collection of information is necessary for the proper performance of the functions of the Agency, including whether the information shall have practical utility; (b) the accuracy of the Agency's estimate of the burden of the proposed collection of information; (c) ways to enhance the quality, utility, and clarity of the information on respondents; including through the use of automated collection techniques or other forms of information technology; and (d) ways to minimize the burden of the collection of information on those who are to respond, including through the use of appropriate automated, electronic, mechanical, or other technological collection techniques or other forms of information technology.

Dated: June 7, 2005.
Suzanne H. Plimpton,
Reports Clearance Officer, National Science Foundation.

[FR Doc. 05-11606 Filed 6-10-05; 8:45 am]

BILLING CODE 7555-01-M